DEPARTMENT OF COMMERCE

U.S. Census Bureau

Proposed Information Collection; Comment Request; Housing Vacancy Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995. The information to be collected is the Housing Vacancy Survey, conducted in conjunction with the Current Population Survey.

DATES: To ensure consideration, written comments must be submitted on or before March 9, 2020.

ADDRESSES: Direct all written comments to Lisa A. Clement, Survey Director, Current Population and American Time Use Surveys, U.S. Census Bureau, 4600 Silver Hill Road, ADDP/CPS HQ-7H141, Washington, DC 20233 (or via the internet at PRAcomments@doc.gov). You may also submit comments, identified by Docket Number USBC-2019-0012, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument(s) and instructions should be directed to Tim J. Marshall, U.S. Census Bureau, ADDP/CPS HQ-7H143, Washington, DC 20233-8400, (301) 763-3806 (or via the internet at dsd.cps@census.gov).

SUPPLEMENTARY INFORMATION:

I. Abstract

The Census Bureau plans to request clearance from the Office of Management and Budget (OMB) for the collection of data concerning the Housing Vacancy Survey (HVS) to be conducted in conjunction with the Current Population Survey (CPS). The Census Bureau sponsors the HVS, which collects data from a sample of vacant housing units identified in the monthly CPS sample. The current clearance expires June 30, 2020.

Collection of the HVS in conjunction with the Current Population Survey began in 1956, and serves a broad array of data users. The HVS provides the only quarterly statistics on rental vacancy rates and homeownership rates for the United States, the four census regions, the 50 states and the District of Columbia, and the 75 largest metropolitan statistical areas (MSAs). Private and public sector organizations use these rates extensively to gauge and analyze the housing market with regard to supply, cost, and affordability at various points in time.

Policy analysts, program managers, budget analysts, and congressional staff use these data to advise the executive and legislative branches of government with respect to the number and characteristics of units available for occupancy and the suitability of housing initiatives. These data are a component of consumer expenditure statistics. They also are used to project mortgage demand and to measure the adequacy of the supply of rental and homeowner units. In addition, investment firms use the HVS data to analyze market trends and for economic forecasting.

II. Method of Collection

The HVS is collected by both personal visit and telephone interviews in conjunction with the CPS interviewing. The Census Bureau conducts HVS interviews using computer-assisted interviewing with landlords or other knowledgeable people concerning vacant housing units identified in the monthly CPS sample and meeting certain criteria.

III. Data

OMB Control Number: 0607-0179.

Form Number(s): There are no forms. We conduct all interviewing on computers.

Type of Review: Regular submission.

Affected Public: Individuals who have knowledge of the vacant sample unit (e.g., landlords, rental agents, neighbors).

Estimated Number of Respondents: 84,000.

Estimated Time per Response: 3 minutes.

Estimated Total Annual Burden Hours: 4200.

Estimated Total Annual Cost to Public: $0 (This is not the cost of respondents' time, but the indirect costs respondents may incur for such things as purchases of specialized software or hardware needed to report, or expenditures for accounting or records maintenance services required by the collection.)

Respondent's Obligation: Voluntary.

Legal Authority: Title 13, United States Code, Section 182; and Title 29, United States Code, Section 1.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-00011 Filed 1-6-20; 8:45 am]

BILLING CODE 3510-07-P